DEPARTMENT OF COMMERCE

U.S. Census Bureau

Proposed Information Collection; Comment Request; Annual Wholesale Trade Survey

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before September 15, 2017.

ADDRESSES: Direct all written comments to Jennifer Jessup, Departmental Paperwork Clearance Officer, Department of Commerce, Room 6616, 14th and Constitution Avenue NW., Washington, DC 20230 (or via the Internet at PRAcomments@doc.gov).

FOR FURTHER INFORMATION CONTACT: Requests for additional information or copies of the information collection instrument(s) and instructions should be directed to Susan Pozzanghera, Economy-Wide Statistics Division, U.S. Census Bureau, (301) 763-7169 or via email at ewd.annual.wholesale.trade.survey@census.gov.

SUPPLEMENTARY INFORMATION:

I. Abstract

The Annual Wholesale Trade Survey (AWTS) covers employer firms with establishments located in the United States and classified in wholesale trade sector as defined by the North American Industry Classification System (NAICS). This sector include distributors, manufacturers' sales branches and offices, as well as agents and brokers.

Firms are selected for this survey using a stratified random sample where strata are defined by type of operation, industry, and annual sales size. The sample is drawn from the Business Register (BR), which is the Census Bureau's master business list containing basic economic information for over 7.4 million employer businesses and over 22.5 million nonemployer businesses.

The BR obtains information using direct data collections and administrative record information from federal agencies. The AWTS sample is updated quarterly to reflect business “births” and “deaths” by adding newly established employer businesses and deleting companies when it is determined they are no longer active.

The AWTS introduced a new sample for 2016. The Census Bureau requested two years of data from all sample firms in order to link the old and new samples, ensuring that the published estimates continue to be reliable and accurate. The 2017 AWTS and subsequent years will request one year of data until a new sample is selected again in five years. The 2017 AWTS will also collect detailed business expenditure items and sales tax data, in response to a request for this data from the Bureau of Economic Analysis (BEA). These data items are collected on the AWTS survey in years ending in 2 and 7, which coincide with the economic census collection.

The AWTS data is collected electronically using the Census Bureau's secure online reporting instrument (Centurion). This electronic system of reporting is designed to allow respondents easier access, convenience and flexibility. In the few cases of companies that have no access to the Internet, the Census Bureau can arrange for the companies to provide data to an analyst via telephone.

The AWTS survey collects data on annual sales, e-commerce sales, operating expenses, purchases, commissions, and year-end inventories. There are five electronic form types based on the specific type of operation and structure of the sampled firm. Each form asks a different subset of the items listed above based on relevance to their type of operation. These data are used to satisfy a variety of public and business needs such as economic market analysis, company performance, and forecasting future demands. The Bureau of Economic Analysis uses the data in developing the Nation's Gross Domestic Product (GDP) estimates and the national accounts' input-output tables. The Bureau of Labor Statistics uses the data as an input to its producer price indices and in developing productivity measurements.

Results will be available by type of operation and item collected at the United States summary level approximately fifteen months after the end of the reference year.

II. Method of Collection

The Census Bureau primarily collects this information via the Internet and, in rare cases when respondents have no access to the Internet, by telephone.

III. Data

OMB Control Number: 0607-0195.

Form Number(s): SA-42, SA-42A, SA-42A (MSBO), SA-42 (AGBR), SA-42A (AGBR).

Type of Review: Regular submission.

Affected Public: Wholesale firms located in the United States.

Estimated Number of Respondents: 8,900.

Estimated Time per Response: 93.6 minutes (2017 survey year—additional items collected); 28.8 minutes (2018 and 2019 survey years).

Estimated Total Annual Burden Hours: 13,884 hours (2017 survey year—additional items collected); 4,272 hours (2018 and 2019 survey years).

Estimated Total Annual Cost to Public: $0.

Respondents Obligation: Mandatory.

Legal Authority: Title 13, United States Code, Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection, and will become a matter of public record.

Sheleen Dumas,
Departmental PRA Lead, Office of the Chief Information Officer.

[FR Doc. 2017-14871 Filed 7-14-17; 8:45 am]

BILLING CODE 3510-07-P